DEPARTMENT OF HEALTH AND HUMAN SERVICES

Request for Information (RFI) Developing the National Public Health Strategy for the Prevention and Control of Vector-Borne Diseases in Humans; Correction

AGENCY: Office of the Assistant Secretary for Health, Office of the Secretary, Department of Health and Human Services.

ACTION: Notice; correction.

SUMMARY: The Office of the Assistant Secretary for Health published a document in the Federal Register of April 27, 2021, requesting comments be sent via www.regulations.gov with a docket number of HHS-OASH-2021-0001. The referenced docket number was incorrect and also inadvertently omitted two additional questions on page 22215.

FOR FURTHER INFORMATION CONTACT: Dr. Kristen Honey, Chief Data Scientist, Senior Advisor, Office of the Assistant Secretary for Health, Department of Health and Human Services, 200 Independence Avenue SW, Washington, DC 20201, vectorbornedisease@hhs.gov, (202) 853-7680.

SUPPLEMENTARY INFORMATION:

Correction

In the Federal Register of April 27, 2021, in FR Doc. 2021-08167, on page 22214, in the third column, correct the ADDRESSES caption to read:

ADDRESSES: Public comments should be submitted online at http://www.regulations.gov. All submissions must be submitted to the Docket named HHS-OASH-2021-0012 to “Request for Information (RFI) from Non-Federal Stakeholders: Developing the National Public Health Strategy for the Prevention and Control of Vector-Borne Diseases in Humans.” Comments submitted electronically, including attachments, will be posted to the docket unchanged and available for view by the public. Evidence and information supporting your comment can be submitted as attachments. Please provide your contact information or organization name on the web-based form for possible follow up from HHS. There is a 5,000 character limit on comments and maximum number (10) of attached files and maximum size (10 MB) of each attached file.

In the Federal Register of April 27, 2021, in FR Doc. 2021-08167, on page 22215, in the second column, after question number “4.” should be two additional questions to read as follows:

5. How can insights from climate change be incorporated into the development of a national strategy?

6. How should low-income and vulnerable populations be addressed in the national strategy?

Kristen Honey,
Chief Data Scientist, Senior Advisor, Office of the Assistant Secretary for Health, U.S. Department of Health and Human Services.

[FR Doc. 2021-09241 Filed 4-30-21; 8:45 am]

BILLING CODE 4150-28-P